DEPARTMENT OF DEFENSE

Office of the Secretary

[Docket ID: DoD-2024-OS-0071]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by November 18, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Family Advocacy Program (FAP): Child Abuse and Domestic Abuse Incident Reporting System; OMB Control Number 0704-0536.

Type of Request: Revision.

Number of Respondents: 20,536.

Responses per Respondent: 1.

Annual Responses: 20,536.

Average Burden per Response: 45 minutes.

Annual Burden Hours: 15,402.

Needs and Uses: This information collection provides the child abuse and domestic abuse incident data from the FAP Central Registry, as required by section 574 of the National Defense Authorization Act (NDAA) for FY 2017 (Pub. L. 114-328), as amended by section 549 of the NDAA for FY 2022 (Pub. L. 117-81). In addition to meeting the Congressional requirement, this report provides critical aggregate information on the circumstances of child abuse and neglect and domestic abuse incidents, which further informs ongoing prevention and response efforts. The aggregate FAP Central Registry data derived from this information collection and submitted from each Military Service (Army, Navy, Marine Corps, and Air Force) offers a DoD-wide description of the child abuse, neglect, and domestic abuse incidents that are reported to FAP. Information is collected on military members and associated family members who have been referred to the installation FAP after a reported incident of family maltreatment, either domestic abuse or child abuse and neglect. The purpose of the collection is to determine eligibility for FAP services and to initiate a clinical record.

Affected Public: Individuals or households.

Frequency: On occasion.

Respondent's Obligation: Voluntary.

OMB Desk Officer: Ms. Jasmeet Seehra.

DOD Clearance Officer: Mr. Reginald Lucas.

Dated: October 15, 2024.
Aaron T. Siegel,
Alternate OSD Federal Register Liaison Officer, Department of Defense.

[FR Doc. 2024-24143 Filed 10-17-24; 8:45 am]

BILLING CODE 6001-FR-P